DEPARTMENT OF EDUCATION

Applications for New Awards; Postsecondary Success Program

AGENCY: Office of Postsecondary Education, Department of Education.

ACTION: Notice.

SUMMARY: The Department of Education (Department) is issuing a notice inviting applications (NIA) for fiscal year (FY) 2022 for the Postsecondary Success Program, Assistance Listing Number 84.116M. This notice relates to the approved information collection under OMB control number 1894-0006.

DATES:

Applications Available: August 12, 2022.

Deadline for Transmittal of Applications: October 11, 2022.

Deadline for Intergovernmental Review: December 12, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Nemeka Mason, U.S. Department of Education, 400 Maryland Avenue SW, Room 2C102, Washington, DC 20202-4260. Telephone: (202) 453-5650. Email: Nemeka.Mason@ed.gov.

If you are deaf, hard of hearing, or have a speech disability and wish to access telecommunications relay services, please dial 7-1-1.

SUPPLEMENTARY INFORMATION:

Full Text of Announcement

I. Funding Opportunity Description

Purpose of Program: The purpose of this program is to promote postsecondary completion for students close to completion, whether for students currently enrolled in higher education, students who are no longer enrolled because of challenges they faced during the COVID-19 pandemic and close to completion, or both. Institutions may opt to supplement or expand evidence-based and data-driven activities to support retention and completion for both groups. This program aims to improve student outcomes, including retention, transfer, credit accumulation, and completion, by augmenting evidence-based activities that are already underway at eligible institutions of higher education (IHEs).

Background: The Consolidated Appropriations Act, 2022 appropriated $76 million for Fund for the Improvement of Postsecondary Education (FIPSE) competitive programs and, within this total, the Joint Explanatory Statement designated $5 million for Postsecondary Student Success Grants “to support evidence-based activities to improve postsecondary retention and completion rates.” The Department intends to focus this grant program on data-driven and evidence-based efforts to support Historically Black Colleges and Universities, Tribal Colleges and Universities, Hispanic-Serving Institutions, other Minority-Serving Institutions, and institutions serving large shares of low-income students, to improve existing retention and completion efforts and support students on the path to college completion.

Nationally, the U.S. Census Bureau reports that nearly one in five Americans has some college education but no degree.¹ Fewer than two in three students pursuing a bachelor's degree complete their degree within 6 years, and only about one in three students at 2-year institutions graduates within 150 percent of the expected time to completion. Completion rates are lower for Black, Hispanic, Pacific Islander, and American Indian/Alaska Native students.²

¹ U.S. Census Bureau, Educational Attainment in the United States: 2020, https://www.census.gov/data/tables/2020/demo/educational-attainment/cps-detailed-tables.html.

² https://nces.ed.gov/programs/raceindicator_red.asp.

The pandemic has further exacerbated some of the college completion challenges that students face. As colleges pivoted to online instruction and students faced unprecedented and simultaneous health, family, and employment challenges, an estimated 1 million students left school. Many still have not returned.³ Community colleges have seen the largest declines in enrollment. Leaving school before earning a credential may have particularly significant consequences for students who leave school with debt; such borrowers are far more likely to default on their student loans, even when their balances are low.⁴

³ Causey, J., Kim, H., Ryu, M., Scheetz, A., & Shapiro, D. (2022, May). Some College, No Credential Student Outcomes, Annual Progress Report—Academic Year 2020/21, Herndon, VA: National Student Clearinghouse Research Center. https://nscresearchcenter.org/wp-content/uploads/SCNCReportMay2022.pdf.

⁴ Miller, B. (2017, December 14). Who Are Student Loan Defaulters? Center for American Progress. https://www.americanprogress.org/article/student-loan-defaulters/.

Many institutions have engaged in institutional reform efforts or implemented evidence-based activities that helped to improve their students' rates of completion. For instance, corequisite remediation programs have helped students to stay enrolled and on track for completion by allowing them to earn credit while completing developmental education courses.⁵ Robust academic advising efforts have helped students to establish clear pathways for their degree completion, cutting down on unnecessary coursework, encouraging the completion of academic coursework and the accumulation of credits, and ensuring students return to school.⁶ Initiatives and programs like the “Degrees When Due” reverse-transfer initiative ⁷ have helped many institutions of higher education (IHEs) not only to retain students, but also to reenroll students who stopped out of postsecondary education.

⁵ See, for example, https://ies.ed.gov/ncee/wwc/Intervention/1602; https://ies.ed.gov/ncee/wwc/Study/90316; or https://ies.ed.gov/ncee/wwc/Study/90306.

⁶ See, for example, https://ies.ed.gov/ncee/wwc/PracticeGuide/28; https://ies.ed.gov/ncee/wwc/Intervention/1072; and https://ies.ed.gov/ncee/wwc/Docs/InterventionReports/WWC-PEPPER_IR-Report_InsideTrack_508.pdf.

⁷ Institute for Higher Education Policy (n.d.). Degrees When Due. https://degreeswhendue.com/#.

We believe the college completion funds available through this grant program will help to amplify the work already happening on campuses to improve retention and completion and reengage students who are close to completion, especially nontraditional students. Specifically, the Department encourages applicants that have already committed to evidence-based practices for reenrollment and retention, completion, and/or closing equity gaps to apply for this grant program. Wherever possible, institutions should note their participation in networks and communities of practice related to college completion efforts as evidence of the institution's commitment to this work and capacity both to conduct the work and to share it with partner institutions. We also urge applicant institutions to think carefully about opportunities to evaluate their strategies as rigorously as possible to ensure they produce high-quality information about the effectiveness of the intervention as the strength of the institution's proposed evaluation plan will be a key factor in reviewing the application, as detailed in the selection criteria. Additionally, subject to the availability of funding, successful applicants may be required to work with a Department technical assistance provider in carrying out project evaluations that will build evidence of effectiveness.

Priorities: This notice contains one absolute priority and one invitational priority. We are establishing the absolute priority for the FY 2022 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Projects that are designed to improve postsecondary student outcomes and that are supported by evidence that meets the conditions in the definition of “promising evidence” (as defined in 34 CFR 77.1(c)). In responding to this priority, applicants must identify one or more of the proposed activities (project components) that meet the promising evidence standard and include a logic model that demonstrates the relationship between such proposed activities and the relevant outcomes the project is designed to achieve.

Invitational Priority: This priority is an invitational priority. Under 34 CFR 75.105(c)(1), we do not give an application that meets this invitational priority a competitive or absolute preference over other applications.

This priority is:

Participation by Community Colleges.

Applications from community colleges (as defined in this notice).

Definitions: We are establishing definitions for “Community college,” “Minority-serving institution,” “Prior learning assessment,” and “Stopped-out student,” for the FY 2022 grant competition and any subsequent year in which we make awards from the list of unfunded applications from this competition, in accordance with section 437(d)(1) of GEPA. The remaining definitions are from 34 CFR 77.1.

Community college means an institution that meets the definition in section 312(f) of the Higher Education Act of 1965 (HEA) (20 U.S.C. 1058(f)) or an IHE (as defined in section 101 of the HEA) that awards degrees and certificates, more than 50 percent of which are not bachelor's degrees (or an equivalent) or master's, professional, or other advanced degrees.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Pacific Education Laboratory's Logic Model Application ((https://ies.ed.gov/ncee/rel/products/resource/100677).

Minority-serving institution means an institution that is eligible to receive assistance under sections 316 through 320 of part A of title III, under part B of title III, or under title V of the HEA.

Performance measure means any quantitative indicator, statistic, or metric used to gauge program or project performance.

Prior learning assessment means the process by which an individual's learning (that may have been acquired through on-the-job experiences, corporate training, military training or experience, volunteer work, or self-guided study) is assessed and evaluated for purposes of granting college credit, certification, or advanced standing toward further education or training.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by What Works Clearinghouse (WWC) reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Stopped-out student means a student who began pursuing postsecondary education and left an IHE prior to earning a certificate or degree.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Waiver of Proposed Rulemaking: Under the Administrative Procedure Act (5 U.S.C. 553), the Department generally offers interested parties the opportunity to comment on proposed priorities, definitions, requirements, and selection criteria. Section 437(d)(1) of GEPA, however, allows the Secretary to exempt from rulemaking requirements regulations governing the first grant competition under a new or substantially revised program authority. This is the first grant competition for this program and, therefore, qualifies for this exemption. To ensure timely grant awards, the Secretary has decided to forgo public comment on the priorities, requirements, definitions, and selection criteria under section 437(d)(1) of GEPA.

Program Authority: HEA sections 741-745, 20 U.S.C. 1138-1138d, the Explanatory Statement accompanying Division H of the Consolidated Appropriations Act, 2022 (Pub. L. 117-103).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grant.

Estimated Available Funds: $4,950,000.

Contingent upon the availability of funds and the quality of applications, we may make additional awards in subsequent years from the list of unfunded applications from this competition.

Estimated Range of Awards: $600,000 to $1,000,000 for 24 months.

Estimated Average Size of Awards: $800,000 for 24 months.

Estimated Number of Awards: 5-8.

Note: The Department is not bound by any estimates in this notice.

Project Period: Up to 24 months.

III. Eligibility Information

1. Eligible Applicants: IHEs that are designated as eligible to apply under the HEA title III and V programs. For institutions applying as a consortium, the lead applicant must be eligible to apply under the HEA title III and V programs.

Note: The notice announcing the FY 2022 process for designation of eligible institutions, and inviting applications for waiver of eligibility requirements, was published in the Federal Register on December 16, 2021 (86 FR 71470). The Department extended the deadline for applications until February 18, 2022, in a notice published in the Federal Register on February 7, 2022 (87 FR 6855). Only institutions that the Department determines are eligible, or which are granted a waiver under the process described in the December 16, 2021, notice, and that meet the other eligibility requirements described in this notice, may apply for a grant under this program. To determine if your institution is eligible for this grant program please visit, https://www2.ed.gov/about/offices/list/ope/idues/eligibility.html.

2.a. Cost Sharing or Matching: This competition does not require cost sharing or matching.

b. Supplement-Not-Supplant: This competition involves supplement-not-supplant funding requirements. This program uses the waiver authority of section 437(d)(1) of GEPA to establish this as a supplement-not-supplant program. Grant funds must be used so that they supplement and, to the extent practical, increase the funds that would otherwise be available for the activities to be carried out under the grant and in no case supplant those funds.

c. Indirect Cost Rate Information: This program uses the waiver authority of section 437(d)(1) of GEPA to limit a grantee's indirect cost reimbursement to 8 percent of a modified total direct cost base. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Evaluation: This program uses the waiver authority of section 437(d)(1) of GEPA to require a grantee to conduct an independent evaluation of the effectiveness of its project.

5. Other Requirement: This program uses the waiver authority of section 437(d)(1) of GEPA to require applicants to specify the IHE's annual percentage of stop-out students for academic years 2017-2021. This information must be included in the program abstract.

IV. Application and Submission Information

1. Application Submission Instructions: Applicants are required to follow the Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 40 pages and (2) use the following standards:

• A “page” is 8.5′ x 11′, on one side only, with 1″ margins at the top, bottom, and both sides.

• Doublespace (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative.

Note: The Budget Information-Non-Construction Programs Form (ED 524) Sections A-C are not the same as the narrative response to the Budget section of the selection criteria.

V. Application Review Information

1. Selection Criteria: The following selection criteria for this program are from 34 CFR 75.210. The points assigned to each criterion are indicated in the parentheses next to the criterion. An applicant may earn up to a total of 100 points based on the selection criteria. All applications will be evaluated based on the selection criteria as follows:

(a) Need for Project. (Maximum of 15 points)

(1) The Secretary considers the need for the proposed project.

(2) In determining the need for the proposed project, the Secretary considers the following factors:

(i) The magnitude or severity of the problem to be addressed by the proposed project. (Up to 10 points)

(ii) The extent to which the proposed project will provide services or otherwise address the needs of students at risk of educational failure. (Up to 5 points)

(b) Significance. (Maximum of 10 points)

(1) The Secretary considers the significance of the proposed project.

(2) In determining the significance of the proposed project, the Secretary considers the following factors:

(i) The likelihood that the proposed project will result in system change or improvement. (Up to 5 points)

(ii) The extent to which the proposed project is likely to build local capacity to provide, improve, or expand services that address the needs of the target population. (Up to 5 points)

(c) Quality of the Project Design. (Maximum 5 points)

(1) The Secretary considers the quality of the design of the proposed project.

(2) In determining the quality of the design of the proposed project, the Secretary considers the extent to which the goals, objectives, and outcomes to be achieved by the proposed project are clearly specified and measurable. (Up to 5 points)

(d) Quality of Project Services. (Maximum 30 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability. (Up to 10 points)

(3) In addition, the Secretary considers the following factors:

(i) The extent to which the services to be provided by the proposed project are appropriate to the needs of the intended recipients or beneficiaries of those services. (Up to 10 points)

(ii) The likelihood that the services to be provided by the proposed project will lead to improvements in the skills necessary to gain employment. (Up to 10 points)

(e) Quality of the Management Plan. (Maximum 10 points)

(1) The Secretary considers the quality of the management plan for the proposed project.

(2) In determining the quality of the management plan for the proposed project, the Secretary considers the adequacy of the management plan to achieve the objectives of the proposed project on time and within budget, including clearly defined responsibilities, timelines, and milestones for accomplishing project tasks. (Up to 10 points)

(f) Quality of the Project Evaluation. (Maximum 30 points)

(1) The Secretary considers the quality of the evaluation to be conducted of the proposed project.

(2) In determining the quality of the evaluation, the Secretary considers the following factors:

(i) The extent to which the methods of evaluation are thorough, feasible, and appropriate to the goals, objectives, and outcomes of the proposed project. (Up to 5 points)

(ii) The extent to which the methods of evaluation include the use of objective performance measures that are clearly related to the intended outcomes of the project and will produce quantitative and qualitative data to the extent possible. (Up to 5 points)

(iii) The extent to which the methods of evaluation will, if well implemented, produce evidence about the project's effectiveness that would meet the What Works Clearinghouse standards with or without reservations as described in the What Works Clearinghouse Handbook (as defined in 34 CFR 77.1(c)). (Up to 20 points)

2. Review and Selection Process: Potential applicants are reminded that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

A panel of non-Federal reviewers will review and score each application in accordance with the selection criteria. A rank order funding slate will be made from this review. Awards will be made in rank order according to the average score received from the peer review.

Before making awards, we will screen applications submitted in accordance with the requirements in this notice to determine whether applications have met eligibility and other requirements. This screening process may occur at various stages of the process; applicants that are determined to be ineligible will not receive a grant, regardless of peer reviewer scores or comments.

Tiebreaker: If there is more than one application with the same score and insufficient funds to fund all the applications with the same ranking, the application with the highest percentage of degree/certificate-seeking undergraduate students who are Pell grant recipients will be funded.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under 34 CFR 75.110, the following five performance measures will be used in assessing the performance of the Postsecondary Success Program:

(a) Number and percentage of stopped-out students who reenrolled at the institution.

(b) Number and percentage of stopped-out students who were served by the grant and who reengaged and earned a certificate, an associate degree, or a bachelor's degree.

(c) Number and percentage of currently enrolled students who were served by the grant and who were still enrolled at the institution in the following academic year.

(d) Number and percentage of currently enrolled students who were served by the grant and who earned a certificate, an associate degree, or a bachelor's degree.

These measures constitute the Department's indicators of success for this program. Consequently, we advise an applicant for an award under this program to consider the operationalization of the measures in conceptualizing the approach and evaluation for its proposed project.

If funded, you will be required to collect and report data in your project's annual performance report (34 CFR 75.590).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2022-17321 Filed 8-11-22; 8:45 am]

BILLING CODE 4000-01-P